Proclamation 9609 of May 12, 2017

Mother's Day, 2017

By the President of the United States of America

A Proclamation

Mother's Day is a special celebration in America. It is an occasion to thank our mothers for the life and love they have given us and to emphasize our affection for them, affection they deserve every day of the year. But it is also an opportunity to honor mothers across our Nation and celebrate motherhood as a pillar of our country's stability and success.

Our deep appreciation for the strength and spirit of mothers and their resolve to do what is right for their children and families cannot be overstated. They are often the first to lend a hand during hard times and the first to celebrate our proudest victories. The boundless energy of our mothers inspires us to be people of action, people who strive relentlessly toward our goals. Above all, they teach us the power and joy of unconditional love.

Today and every day, we honor the incredible women whose influence on the world is beyond measure. They brighten America's future by shaping the character of each new generation. They lead us through our deepest lessons about perseverance and hard work, preparing us for life's responsibilities. Whether by birth, adoption, or foster care, our Nation's mothers give selflessly of themselves for the well-being of the lives and futures of others. We humbly thank them for this greatest gift.

In recognition of the contributions of mothers to American families and to our Nation, the Congress, by joint resolution approved May 8, 1914 (38 Stat. 770), has designated the second Sunday in May each year as Mother's Day and requested the President to call for its appropriate observance.

NOW, THEREFORE, I, DONALD J. TRUMP, President of the United States of America, do hereby proclaim May 14, 2017, as Mother's Day. I encourage all Americans to express their love and respect for their mothers or beloved mother figures, whether with us in person or in spirit, and to reflect on the importance of motherhood to the prosperity of our families, communities, and Nation.

IN WITNESS WHEREOF, I have hereunto set my hand this twelfth day of May, in the year of our Lord two thousand seventeen, and of the Independence of the United States of America the two hundred and forty-first.

[FR Doc. 2017-10164

Filed 5-16-17; 11:15 am]

Billing code 3295-F7-P